DEPARTMENT OF AGRICULTURE

Submission for OMB Review; Comment Request

July 30, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management Agency

Title: Florida Agricultural Workers Survey.

OMB Control Number: 0563-NEW.

Summary of Collection: The Risk Management Agency (RMA) is authorized under section 522(d) of the Federal Crop Insurance Act to enter into partnership agreements with public and private organizations for the purpose of increasing the availability of loss mitigation, financial, and other risk management tools for producers of agricultural commodities. RMA intends to collect information for purposes of the development of risk management tools to analyze producer risks associated with the employment of seasonal labor in the three Florida selected specialty crops: citrus, tomatoes, and strawberries. Collection of information is necessary for a research project under a USDA/RMA—University of Florida (UF) partnership agreement.

Need and Use of the Information: The information collection will be conducted primarily through in-person surveys. USDA/RMA—UF will use the information to describe the demographic and employment characteristics of Florida's citrus, tomato and strawberry workers. Results of the survey will be used to develop the risk management tools. The tools will enable producers to determine the costs and benefits of utilizing different mixes of labor and capital, given changes in wages and the supply of workers.

Description of Respondents: Farms.

Number of Respondents: 1,808.

Frequency of Responses: Reporting: Other (one-time).

Total Burden Hours: 2,107.

Charlene Parker,
Departmental Information Clearance Officer.

[FR Doc. 2010-19134 Filed 8-3-10; 8:45 am]

BILLING CODE 3410-08-P